DEPARTMENT OF TRANSPORTATION

Office of the Secretary

Notice of Applications for Certificates of Public Convenience and Necessity and Foreign Air Carrier Permits Filed Under Subpart B (Formerly Subpart Q) During the Week Ending April 11, 2008

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0124.

Date Filed: April 8, 2008.

Due Date for Answers, Conforming Applications, or Motion To Modify Scope: April 29, 2008.

Description: First amended application of Aerolineas Mesoamericanas, S.A. de C.V. requesting to include service from Culiacan to Las Vegas operating 3 weekly roundtrip flights to the previous foreign air carrier permit and exemption authority requested.

Docket Number: DOT-OST-2008-0130.

Date Filed: April 9, 2008.

Due Date for Answers, Conforming Applications, or Motion To Modify Scope: April 30, 20008.

Description: Application of Belair Airlines Ltd. /(“Belair”) requesting a foreign air carrier permit authorizing it to provide: (i) Scheduled foreign air transportation of persons, property and mail from points behind Switzerland via Switzerland and intermediate points to a point or points in the United States and beyond, as provided in Section 1 to Annex I of the Open Skies Agreement, together with all of the operational rights provided for in that annex; and (ii) charter foreign air transportation of persons, property and mail to the full extent permitted in Annex II of the Open Skies Agreement. In addition, Belair requests an amendment to its existing exemption authority to enable it engage in the above-described operations pending issuance of its foreign air carrier permit.

Docket Number: DOT-OST-2008-0133.

Date Filed: April 10, 2008.

Due Date for Answers, Conforming Applications, or Motion To Modify Scope: May 1, 2008.

Description: Joint Application of Arrow Air, Inc.(Arrow), ATA Airlines, Inc., North American Airlines, Inc., World Airways, Inc. and MatlinPatterson Global Advisers, LLC (MatlinPatterson) requesting any necessary approval for the de facto transfer of the certificate authority of Arrow in connection with the purchase by MatlinPatterson of a controlling interest in that company's voting stock.

Renee V. Wright,
Program Manager, Docket Operations, Federal Register Liaison.

[FR Doc. E8-13766 Filed 6-17-08; 8:45 am]

BILLING CODE 4910-9X-P